DEPARTMENT OF ENERGY

Federal Energy Regulatory Commission

Combined Notice of Filings #1

January 7, 2009.

Take notice that the Commission received the following electric corporate filings:

Docket Numbers: EC09-35-000.

Applicants: New Harquahala Generating Co., LLC,MACH Gen, LLC, New Athens Generating Company, LLC, Millennium Power Partners, LP, Strategic Value Partners.

Description: Application of MACH Gen, LLC, et al. under Section 203 of the Federal Power Act.

Filed Date: 01/06/2009.

Accession Number: 20090106-5086.

Comment Date: 5 p.m. Eastern Time on Tuesday, January 27, 2009.

Docket Numbers: EC09-36-000.

Applicants: EDF Development, Inc., Constellation Energy Group, Inc., Handsome Lake Energy, LLC.

Description: Joint Application of EDF Development, Inc. et al. under Section 203 of the Federal Power Act.

Filed Date: 01/06/2009.

Accession Number: 20090106-5090.

Comment Date: 5 p.m. Eastern Time on Tuesday, January 27, 2009.

Docket Numbers: EC09-37-000.

Applicants: EDF Development, Inc., Constellation Energy Group, Inc., CER Generation II, LLC.

Description: Joint Application of EDF Development, Inc. et al. under Section 203 of the Federal Power Act.

Filed Date: 01/06/2009.

Accession Number: 20090106-5093.

Comment Date: 5 p.m. Eastern Time on Tuesday, January 27, 2009.

Docket Numbers: EC09-38-000.

Applicants: EDF Development, Inc., Constellation Energy Group Inc.

Description: Joint Application of EDF Development, Inc. et al. under Section 203 of the Federal Power Act.

Filed Date: 01/06/2009.

Accession Number: 20090106-5095.

Comment Date: 5 p.m. Eastern Time on Tuesday, January 27, 2009.

Docket Numbers: EC09-39-000.

Applicants: EDF Development, Inc., Constellation Energy Group, Inc., Constellation Power Source Generation LLC.

Description: Joint Application of EDF Development, Inc. et al. under Section 203 of Federal Power Act.

Filed Date: 01/06/2009.

Accession Number: 20090106-5096

Comment Date: 5 p.m. Eastern Time on Tuesday, January 27, 2009.

Docket Numbers: EC09-40-000.

Applicants: EDF Development, Inc., Constellation Energy Group, Inc., Constellation Energy Nuclear Group, LLC.

Description: Joint Application of EDF Development, Inc. et al. under Section 203 of Federal Power Act.

Filed Date: 01/06/2009.

Accession Number: 20090106-5097

Comment Date: 5 p.m. Eastern Time on Tuesday, January 27, 2009.

Docket Numbers: EC09-41-000.

Applicants: EDF Development, Inc., Constellation Energy Group, Inc., Constellation Power Source Generation LLC.

Description: Joint Application of EDF Development, Inc. under Section 203 of the Federal Power Act.

Filed Date: 01/06/2009.

Accession Number: 20090106-5098.

Comment Date: 5 p.m. Eastern Time on Tuesday, January 27, 2009.

Docket Numbers: EC09-42-000.

Applicants: EDF Development, Inc., Constellation Energy Group, Inc.

Description: Joint Application of EDF Development, Inc. under Section 203 of Federal Power Act.

Filed Date: 01/06/2009.

Accession Number: 20090106-5099.

Comment Date: 5 p.m. Eastern Time on Tuesday, January 27, 2009.

Docket Numbers: EC09-43-000.

Applicants: EDF Development, Inc., Constellation Energy Group, Inc.

Description: Joint Application of EDF Development, Inc., et al. for Authorization Under Section 203 of the Federal Power Act and Request for Expedited Treatment.

Filed Date: 01/06/2009.

Accession Number: 20090106-5120.

Comment Date: 5 p.m. Eastern Time on Tuesday, January 27, 2009.

Docket Numbers: EC09-44-000.

Applicants: EDF Development, Inc., Constellation Energy Group, Inc., Constellation Power Source Generation LLC.

Description: Joint Application of EDF Development, Inc., et al. for Authorization Under Section 203 of the Federal Power Act and Request for Expedited Treatment.

Filed Date: 01/06/2009.

Accession Number: 20090106-5121

Comment Date: 5 p.m. Eastern Time on Tuesday, January 27, 2009.

Docket Numbers: EC09-45-000.

Applicants: EDF Development, Inc., Constellation Energy Group, Inc.

Description: Joint Application of EDF Development, Inc., et al. for Authorization Under Section 203 of the Federal Power Act and Request for Expedited Treatment.

Filed Date: 01/06/2009.

Accession Number: 20090106-5122.

Comment Date: 5 p.m. Eastern Time on Tuesday, January 27, 2009.

Docket Numbers: EC09-46-000.

Applicants: EDF Development, Inc., Constellation Energy Group, Inc., Constellation Power Source Generation LLC.

Description: Joint Application of EDF Development, Inc., et al. for Authorization Under Section 203 of the Federal Power Act and Request for Expedited Treatment.

Filed Date: 01/06/2009.

Accession Number: 20090106-5123.

Comment Date: 5 p.m. Eastern Time on Tuesday, January 27, 2009.

Take notice that the Commission received the following electric rate filings:

Docket Numbers: ER00-3614-011.

Applicants: BP Energy Company.

Description: BP Energy Company submits an updated market power analysis.

Filed Date: 12/22/2008.

Accession Number: 20081222-4003.

Comment Date: 5 p.m. Eastern Time on Friday, February 20, 2009.

Docket Numbers: ER01-205-033; ER98-2640-031.

Applicants: Xcel Energy Services Inc.

Description: Northern States Power Company-Minnesota, and Northern States Power Company-Wisconsin submit a Triennial Market Power Analysis pursuant to Order 697.

Filed Date: 12/22/2008.

Accession Number: 20081229-0153.

Comment Date: 5 p.m. Eastern Time on Friday, February 20, 2009.

Docket Numbers: ER07-30-002.

Applicants: RC Cape May Holdings, LLC.

Description: RC Cape May Holdings, LLC submits Substitute Original Sheet 1&2 to its FERC Electric Tariff, First Revised Volume 1.

Filed Date: 12/31/2008.

Accession Number: 20090105-0145.

Comment Date: 5 p.m. Eastern Time on Wednesday, January 21, 2009.

Docket Numbers: ER09-474-000.

Applicants: PowerSmith Cogeneration Project Limited.

Description: PowerSmith Cogeneration Project, Limited Partnership submits an Application for Market-Based Rate Authorization and Request for Waivers and Blanket Approvals.

Filed Date: 12/31/2008.

Accession Number: 20090105-0006.

Comment Date: 5 p.m. Eastern Time on Wednesday, January 21, 2009.

Docket Numbers: ER09-475-000.

Applicants: Simpson Tacoma Kraft Company, LLC.

Description: Simpson Tacoma Kraft Company, LLC submits Public Petition for Acceptance of Initial Tariff Waivers and Blanket Authority.

Filed Date: 12/31/2008.

Accession Number: 20090106-0081.

Comment Date: 5 p.m. Eastern Time on Wednesday, January 21, 2009.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-701 Filed 1-14-09; 8:45 am]

BILLING CODE 6717-01-P